DEPARTMENT OF COMMERCE

International Trade Administration

[A-533-855]

Steel Threaded Rod from India: Postponement of Preliminary Determination of Antidumping Duty Investigation

AGENCY: Enforcement and Compliance, formerly Import Administration, International Trade Administration, Department of Commerce.

DATES: November 29, 2013.

FOR FURTHER INFORMATION CONTACT: Paul Stolz or Raquel Silva, AD/CVD Operations, Office III, Enforcement and Compliance, International Trade Administration, U.S. Department of Commerce, 14th Street and Constitution Avenue NW., Washington, DC 20230, telephone: (202) 482-4474, or (202) 482-6475, respectively.

SUPPLEMENTARY INFORMATION:

Postponement of Preliminary Determination

On July 24, 2013, the Department of Commerce (the “Department”) published a notice of initiation of the antidumping duty investigation of steel threaded rod from India.¹ The notice of initiation stated that the Department, in accordance with section 733(b)(1)(A) of the Tariff Act of 1930, as amended (the “Act”), and 19 CFR 351.205(b)(1), would issue its preliminary determination for this investigation, unless postponed, no later than 140 days after the date of the initiation. In addition, the Department tolled deadlines by 16 days due to the shutdown of the Federal Government.² Thus, the preliminary determination of this antidumping duty investigation is currently due no later than December 20, 2013.

¹ See Steel Threaded Rod From India and Thailand: Initiation of Antidumping Duty Investigations, 78 FR 44526 (July 24, 2013).

² See the memorandum for the record, “Deadlines Affected by the Shutdown of the Federal Government,” dated October 18, 2013.

On November 12, 2013, more than 25-days before the scheduled preliminary determination, All America Threaded Products Inc., Bay Standard Manufacturing Inc., and Vulcan Threaded Products Inc. (“Petitioners”), pursuant to section 733(c)(1)(A) of the Act and 19 CFR 351.205(e), made a timely request for a 50-day postponement of the preliminary determination in this investigation.³ Petitioners noted in their request that they require additional time to analyze and comment upon the questionnaire responses of the mandatory respondents in this investigation.

³ See Letter from Petitioners to the Secretary of Commerce, “Antidumping Duty Investigation of Steel Threaded Rod from India—Petitioners' Request for Extension of Time for Preliminary Determination,” dated November 12, 2013.

The Department has found no compelling reason to deny the request and, therefore, in accordance with section 733(c)(1)(A) of the Act, the Department is postponing the deadline for the preliminary determination to no later than 206 days after the date on which it initiated this investigation (the original 140-day period plus a 50 day extension and the 16 days tolled for the shutdown of the Federal Government). Therefore, the new deadline for issuing the preliminary determination is February 10, 2014.⁴

⁴ The extended deadline, calculated as 190 days from July 24, 2013 (the date of publication of the initiation notice of this investigation) plus the 16 days tolled for the shutdown of the Federal Government, falls on February 8, 2014, a Saturday, which is not a business day. Therefore, the extended deadline is the next business day, which is Monday, February 10, 2014. See Notice of Clarification: Application of “Next Business Day” Rule for Administrative Determination Deadlines Pursuant to the Tariff Act of 1930, As Amended. 70 FR 24533 (May 10, 2008).

This notice is issued and published pursuant to section 733(c)(2) of the Act and 19 CFR 351.205(f)(1).

Dated: November 20, 2013.
Paul Piquado,
Assistant Secretary for Enforcement and Compliance.

[FR Doc. 2013-28554 Filed 11-27-13; 8:45 am]

BILLING CODE 3510-DS-P